DEPARTMENT OF STATE

[Public Notice 3583]

Shipping Coordinating Committee, Subcommittee for the Prevention of Marine Pollution; Notice of Meeting

The Subcommittee for the Prevention of Marine Pollution, a subcommittee of the Shipping Coordinating Committee, will conduct an open meeting at 9:30 a.m. on Tuesday, April 17, 2001, in Room 2415 at U.S. Coast Guard Headquarters, 2100 Second Street, S.W., Washington, D.C.

The purpose of this meeting will be to review the agenda items to be considered at the forty-sixth Session of the International Maritime Organization (IMO) Marine Environment Protection Committee (MEPC 46) to be held at the IMO headquarters in London from 23 through 27 April 2001. Proposed U.S. positions on the agenda items for MEPC 46 will be discussed. The major items for discussion for MEPC 46 include the following:

a. Consideration and adoption of amendments to mandatory instruments;

b. Harmful aquatic organisms in ballast water;

c. Implementation of the International Convention on Oil Pollution Preparedness, Response and Cooperation (OPRC Convention) and the Protocol on Preparedness, Response and Cooperation to Pollution Incidents by Hazardous and Noxious Substances (OPRC-HNS Protocol);

d. Harmful effects of the use of anti-fouling paints for ships;

e. Identification and protection of Special Areas and Particularly Sensitive Sea Areas;

f. Recycling of ships;

g. Interpretation and amendments of the International Convention for the Prevention of Pollution from Ships (MARPOL 73/78) and related Codes;

h. Inadequacy of reception facilities;

i. Prevention of air pollution from ships;

j. Promotion of implementation and enforcement of MARPOL 73/78 and related Codes;

k. Preparation for the World Summit on Sustainable Development (RIO+10);

l. Matters related to the International Code for the Safe Carriage of Packaged Irradiated Nuclear Fule, Plutonium and High-Level Radioactive Wastes on board ships (INF Code);

m. The role of human element with regard to pollution prevention; and

n. Matters related to the 1973 Intervention Protocol.

Please note that hard copies of documents associated with MEPC 46 will not be available at this meeting. Requests for hard copies may be made in writing to the address provided below. Documents will be available in Adobe Acrobat format on CD-ROM on the day of the meeting or can be requested on-line at the web address provided below.

Members of the public are invited to attend the meeting up to the seating capacity of the room. For further information, or to submit views in advance of the meeting, please contact Lieutenant Dave Beck, U.S. Coast Guard, Environmental Standards Division (G-MSO-4), 2100 Second Street, SW., Washington, DC 20593-0001; telephone (202) 267-0713; fax (202) 267-4690, e-mail dbeck@comdt.uscg.mil; or on-line at http://www.uscg.mil/hq/g-m/mso/mso4/mepc.html.

Dated: February 28, 2001.
Stephen M. Miller,
Executive Secretary, Shipping Coordinating Committee, U.S. Department of State.

[FR Doc. 01-5766 Filed 3-7-01; 8:45 am]

BILLING CODE 4710-07-U